DEPARTMENT OF JUSTICE

Notice of Lodging of Consent Decree Under the Clean Air Act

Notice is hereby given that on December 20, 2002, a proposed Consent Decree (“Decree”) in United States v. Rhode Island Resource Recovery Corporation, Civil Action No. 02-540ML was lodged with the United States District Court for the District of Rhode Island.

In this action the United States sought injunctive relief and a civil penalty from the defendant, Rhode Island Resource Recovery Corporation (“RIRRC”), for violations of the Clean Air Act at the Central Landfill in Johnston, Rhode Island. The Decree provides that RIRRC shall pay a civil penalty of $321,000. Moreover, the Decree requires the defendant to preform injunctive relief estimated to cost upwards of $3.5 million, and undertake a supplemental environmental project (“SEP”) with a total SEP cost to RIRRC of at least $1.8 million. The SEP includes, inter alia, the termination of waste acceptance operations at Phases II and III of the landfill by July 2003, the capping of Phases I, II, and III by 2006, and the accelerated capping of portions of Phases II and III by the end of 2003.

The Department of Justice will receive for a period of 30 days from the date of this publication, comments relating to the Decree. Comments should be addressed to the Assistant Attorney General, Environment and Natural Resources Division, P.O. Box 7611, U.S. Department of Justice, Washington, DC 20044-7611, and should refer to United States v. Rhode Island Resource Recovery Corporation, D.J. Ref. 90-5-2-1-07164.

The Decree may be examined at the Office of the United States Attorney, District of Rhode Island, Fleet Center, 50 Kennedy Plaza, 8th Floor, Providence, Rhode Island 02903, (401) 528-5477 and at U.S. EPA Region I, 1 Congress Street, Suite 1100, Boston, Massachusetts 02114, (617) 918-2001. A copy of the Decree may also be obtained by mail from the Consent Decree Library, P.O. Box 7611, U.S. Department of Justice, Washington, DC 20044-7611 or by faxing a request to Tonia Fleetwood, fax no. (202) 514-0097, phone confirmation number (202) 514-1547. In requesting a copy, please enclose a check in the amount of $65.25 (25 cents per page reproduction cost) payable to the U.S. Treasury.

Ronald G. Gluck,
Assistant Chief, Environmental Enforcement Section, Environment and Natural Resources Division.

[FR Doc. 03-895 Filed 1-15-03; 8:45 am]

BILLING CODE 4410-15-M